FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted December 1, 2016 Thru December 31, 2016
12/01/2016
20170262 | G | GTCR Fund X/A LP; Inteliquent, Inc.; GTCR Fund X/A LP.
12/02/2016
20170204 | G | Bertelsmann Ver.; Advanced Practice Strategies, Inc.; Bertelsmann Ver.
20170248 | G | Hainan Cihang Charitable Foundation c/o HNA Group Co., Ltd.; Hilton Worldwide Holdings Inc.; Hainan Cihang Charitable Foundation c/o HNA Group Co., Ltd.
20170259 | G | Federated Mutual Insurance Company; RRRF, L.L.C.; Federated Mutual Insurance Company.
20170293 | G | SpartanNash Company; Joseph A. Caito; SpartanNash Company.
20170295 | G | SpartanNash Company; Philip J. Caito IV; SpartanNash Company.
20170302 | G | dormakaba Holding AG; Mesker Holdings, LLC; dormakaba Holding AG.
20170304 | G | CenterPoint Energy, Inc.; Atmos Energy Corporation; CenterPoint Energy, Inc.
20170311 | G | Tesoro Corporation; George B. Kaiser; Tesoro Corporation.
20170312 | G | Tesoro Corporation; MDU Resources Group, Inc.; Tesoro Corporation.
20170315 | G | Tesoro Corporation; Whiting Petroleum Corporation; Tesoro Corporation.
20170324 | G | Charoen Pokphand Foods Public Company Limited; Centre Capital Investors V, L.P.; Charoen Pokphand Foods Public Company Limited.
20170325 | G | Riverside Micro-Cap Fund IV-A, L.P.; Brendan Weaver; Riverside Micro-Cap Fund IV-A, L.P.
20170326 | G | Riverside Micro-Cap Fund IV-A, L.P.; Damon Weaver; Riverside Micro-Cap Fund IV-A, L.P.
20170329 | Y | KKR Asian Fund II Japan AIV L.P.; Calsonic Kansei Corporation; KKR Asian Fund II Japan AIV L.P.
20170331 | G | Cressey & Company Fund V, LP; Beecken Petty O'Keefe Fund III, L.P.; Cressey & Company Fund V, LP.
12/05/2016
20170278 | G | BDT Capital Partners Fund II, L.P.; Athletico Management Holdings, LLC; BDT Capital Partners Fund II, L.P.
20170309 | G | PepsiCo, Inc.; KeVita, Inc.; PepsiCo, Inc.
12/06/2016
20170333 | G | Carlyle Partners VI, L.P.; NVLX Holdings, LLC; Carlyle Partners VI, L.P.
12/07/2016
20161136 | G | Boyd Gaming Corporation; Cannery Casino Resorts, LLC; Boyd Gaming Corporation.
20170244 | G | Letterone Investment Holdings S.A.; Carter Burden III; Letterone Investment Holdings S.A.
20170249 | G | Spectrum Equity Investors VI, L.P.; CBOE Holdings, Inc. ; Spectrum Equity Investors VI, L.P.
20170290 | G | Cortec Group Fund VI, L.P.; ICON Eye Care LLC; Cortec Group Fund VI, L.P.
12/08/2016
20170224 | G | Advent OT (Cayman) Ltd.; SAFRAN; Advent OT (Cayman) Ltd.
20170265 | G | Arrowhead Holdco Company; Daniel Ariens; Arrowhead Holdco Company.
20170291 | G | Rodger O. Riney Family Voting Trust U/A/D 12/31/2012; TD Ameritrade Holding Corporation; Rodger O. Riney Family Voting Trust U/A/D 12/31/2012.
20170292 | G | TD Ameritrade Holding Corporation; Rodger O. Riney Family Voting Trust U/A/D 12/31/2012; TD Ameritrade Holding Corporation.
12/09/2016
20170230 | G | Eugenie Patri Sabastien EPS, SA; BBH/Fun, LLC; Eugenie Patri Sabastien EPS, SA
20170231 | G | Jorge Paulo Lemann; BBH/Fun, LLC; Jorge Paulo Lemann.
20170305 | G | Wang Jianlin; Todd L. Boehly; Wang Jianlin.
20170318 | G | Beijing Shareco Technologies Co., Ltd.; Global Eagle Entertainment Inc.; Beijing Shareco Technologies Co., Ltd.
20170335 | G | OZRE Holdings XVI LLC; CNL Lifestyle Properties, Inc.; OZRE Holdings XVI LLC.
20170336 | G | Acasta Enterprises Inc.; Richard Wachsberg; Acasta Enterprises Inc.
20170337 | G | Acasta Enterprises Inc.; Charles Wachsberg; Acasta Enterprises Inc.
20170348 | G | Lear Corporation; MVC Private Equity Fund, L.P.; Lear Corporation.
20170355 | G | Dr Pepper Snapple Group, Inc.; Bai Brands LLC; Dr Pepper Snapple Group, Inc.
20170356 | G | Lully Jersey Holding Limited; JPMorgan & Chase & Co.; Lully Jersey Holding Limited.
20170363 | G | Clayton, Dubilier & Rice Fund IX, L.P.; Moelis Capital Partners Opportunity Fund I, L.P.; Clayton, Dubilier & Rice Fund IX, L.P.
20170364 | G | Carlyle Global Partners, L.P.; FCOF III UST LLC; Carlyle Global Partners, L.P.
20170377 | G | WPP plc; Promotion Execution Partners, LLC; WPP plc.
20170379 | G | Palladium Equity Partners IV, L.P.; Trampoline Acquisition Parent Holdings, LLC; Palladium Equity Partners IV, L.P.
20170388 | G | JX Holdings, Inc.; TonenGeneral Sekiyu K.K.; JX Holdings, Inc.
20170395 | G | 1818 Acquisition LLC; Alinda Infrastructure Fund II, L.P.; 1818 Acquisition LLC.
12/10/2016
20160314 | G | Elliott International Limited; CenterPoint Energy, Inc.; Elliott International Limited.
12/12/2016
20161016 | G | Alaska Air Group, Inc.; Virgin America Inc.; Alaska Air Group, Inc.
20170301 | G | Insight Enterprises, Inc.; Datalink Corporation; Insight Enterprises, Inc.
20170383 | G | Colowide Co., Ltd.; Tomoyoshi Nishiyama; Colowide Co., Ltd.
20170386 | G | Coloplast A/S; Liberty Medical Holdings, LLC; Coloplast A/S.
20170392 | G | QUIKRETE Holdings, Inc.; CEMEX, S.A.B. de C.V.; QUIKRETE Holdings, Inc.
20170400 | G | MACOM Technology Solutions Holdings, Inc.; Applied Micro Circuits Corporation; MACOM Technology Solutions Holdings, Inc.
12/13/2016
20170245 | G | Providence Equity Partners VII USRPHC L.P.; EdgeConnex, Inc.; Providence Equity Partners VII USRPHC L.P.
20170345 | G | The Allstate Corporation; Bain Capital Fund X, L.P.; The Allstate Corporation.
12/14/2016
20170277 | G | FFL Capital Partners IV, L.P.; Brockway Moran & Partners Fund III, L.P.; FFL Capital Partners IV, L.P.
20170338 | G | Mitsubishi Heavy Industries, Ltd.; Mitsubishi Nichiyu Forklift Co., Ltd.; Mitsubishi Heavy Industries, Ltd.
20170393 | G | Clearlake Capital Partners IV, L.P.; Harte Hanks, Inc.; Clearlake Capital Partners IV, L.P.
12/15/2016
20170358 | G | Ivanti Investment Holdings, LLC; Clearlake Capital Partners II, L.P.; Ivanti Investment Holdings, LLC.
12/16/2016
20170297 | G | Warburg Pincus Private Equity XII, L.P.; United Internet AG; Warburg Pincus Private Equity XII, L.P.
20170303 | G | Crown Castle International Corp.; NextEra Energy, Inc.; Crown Castle International Corp.
20170327 | G | Elliott Associates, L.P.; Marathon Petroleum Corporation; Elliott Associates, L.P.
20170328 | G | Elliott International Limited; Marathon Petroleum Corporation; Elliott International Limited.
20170349 | G | Glanbia Co-operative Society Limited; Brandon A. Bert & Audra J. Bert; Glanbia Co-operative Society Limited.
20170350 | G | Glanbia Co-operative Society Limited; Todd R. Habermehl & Brandy L. Habermehl; Glanbia Co-operative Society Limited.
20170354 | G | New Residential Investment Corp.; Walter Capital Opportunity, LP; New Residential Investment Corp.
20170396 | G | J&F Investimentos S.A.; David W. Maschhoff Family GST Trust; J&F Investimentos S.A.
20170398 | G | Vossloh AG; Altus Capital Management II, LLC; Vossloh AG.
20170401 | G | Odyssey Investment Partners Fund V, L.P.; Trilantic Capital Partners V (North America) L.P.; Odyssey Investment Partners Fund V, L.P.
20170406 | G | Comvest Investment Partners V, L.P.; IMC Group, LLC; Comvest Investment Partners V, L.P.
20170407 | G | Roger S. Penske; Christopher W. Turner; Roger S. Penske.
20170410 | G | Mr. Zhiqiang Lu; Genworth Financial, Inc.; Mr. Zhiqiang Lu.
20170421 | G | Platinum Equity Capital Partners IV, L.P.; Cox Family Voting Trust u/a/d 7/26/13; Platinum Equity Capital Partners IV, L.P.
20170423 | G | PSI Enterprises, LLC; Spire Capital Partners II, L.P.; PSI Enterprises, LLC.
12/19/2016
20170275 | G | Windstream Holdings, Inc.; EarthLink Holdings Corp.; Windstream Holdings, Inc.
20170332 | G | Samsung Electronics Co., Ltd.; Harman International Industries, Incorporated; Samsung Electronics Co., Ltd.
20170382 | G | ArcLight Energy Partners Fund VI, L.P.; TransCanada Corporation; ArcLight Energy Partners Fund VI, L.P.
20170387 | G | Bayview MSR Opportunity Master Fund, L.P.; PHH Corporation; Bayview MSR Opportunity Master Fund, L.P.
20170429 | G | Charlesbank Equity Fund VIII, Limited Partnership; Clearview Capital Fund II, L.P.; Charlesbank Equity Fund VIII, Limited Partnership.
12/20/2016
20160997 | G | Wang Jianlin; Carmike Cinemas, Inc.; Wang Jianlin.
20161550 | G | McKesson Corporation; PF2 NewCo LLC; McKesson Corporation.
12/21/2016
20170313 | G | London Stock Exchange Group plc; Carousel Capital Partners III L.P.; London Stock Exchange Group plc.
20170322 | G | Booz Allen Hamilton Holding Corporation; Bruce E. Toll; Booz Allen Hamilton Holding Corporation.
20170323 | G | Booz Allen Hamilton Holding Corporation; Mark Kozak; Booz Allen Hamilton Holding Corporation.
20170380 | G | Tencent Holdings Limited; Pocket Gems, Inc.; Tencent Holdings Limited.
20170384 | G | Sanofi; C.H. Boehringer Sohn AG & Co. KG; Sanofi.
20170404 | G | Symantec Corporation; LifeLock, Inc.; Symantec Corporation.
12/22/2016
20170321 | G | Francisco Partners IV, L.P.; Operative Media, Inc.; Francisco Partners IV, L.P.
20170339 | G | Siemens Aktiengesellschaft; Mentor Graphics Corporation; Siemens Aktiengesellschaft.
20170428 | G | Community Bank System, Inc.; Northeast Retirement Services, Inc.; Community Bank System, Inc.
12/23/2016
20160876 | G | GTCR Fund XI/B LP; Thomas H. Lee Equity Fund VI, L.P.; GTCR Fund XI/B LP.
20160877 | G | GTCR Fund XI/B LP; Bain Capital CC Investors, L.P.; GTCR Fund XI/B LP.
20170342 | G | Elliott Associates, L.P.; Cognizant Technology Solutions Corporation; Elliott Associates, L.P.
20170343 | G | Elliott International Limited; Cognizant Technology Solutions Corporation; Elliott International Limited.
20170434 | G | Vista Equity Partners Fund VI, L.P.; Fidelity National Information Services, Inc.; Vista Equity Partners Fund VI, L.P.
20170435 | G | Vista Equity Partners Fund V, L.P.; Fidelity National Information Services, Inc.; Vista Equity Partners Fund V, L.P.
20170443 | G | WWEX UNI Topco Holdings, LLC; Quad-C Partners VIII, L.P.; WWEX UNI Topco Holdings, LLC.
20170444 | G | WWEX UNI Topco Holdings, LLC; REP UNI I-B Feeder, L.P.; WWEX UNI Topco Holdings, LLC.
20170447 | G | Bain Capital Fund XI, L.P.; Sun Capital Partners V, L.P.; Bain Capital Fund XI, L.P.
20170457 | G | Baseline Industries, L.P.; Stitch Fix, Inc.; Baseline Industries, L.P.
12/27/2016
20161298 | G | ABBOTT LABORATORIES; St. Jude Medical, Inc; ABBOTT LABORATORIES.
12/28/2016
20160766 | G | C.H. Boehringer Sohn AG & Co. KG; Sanofi; C.H. Boehringer Sohn AG & Co. KG.
20170365 | G | CSL Completions Co-Invest, LLC; BJ Services, LLC; CSL Completions Co-Invest, LLC.
20170374 | G | Trident V, L.P.; American Capital, Ltd.; Trident V, L.P.
20170412 | G | Zayo Group Holdings, Inc.; Electric Lightwave Parent, Inc.; Zayo Group Holdings, Inc.
12/29/2016
20170375 | G | BCEC-SIS Holdings (Guernsey) LP; Medina Capital Fund, LP; BCEC-SIS Holdings (Guernsey) LP.
20170376 | G | BCEC-SIS Holdings (Guernsey) LP; CenturyLink, Inc.; BCEC-SIS Holdings (Guernsey) LP.
20170452 | G | Marcato International Ltd.; Buffalo Wild Wings, Inc.; Marcato International Ltd.
12/30/2016
20170372 | G | WellCare Health Plans, Inc.; Universal American Corp.; WellCare Health Plans, Inc.
20170389 | G | AT&T Inc.; Invidi Technologies Corporation; AT&T Inc.

FOR FURTHER INFORMATION CONTACT: Theresa Kingsberry Program Support Specialist, Federal Trade Commission Premerger Notification Office Bureau of Competition, Room CC-5301, Washington, DC 20024, (202) 326-3100.

By direction of the Commission.
Donald S. Clark,
Secretary.

[FR Doc. 2017-01491 Filed 1-23-17; 8:45 am]

BILLING CODE 6750-01-P